DEPARTMENT OF TRANSPORTATION

National Highway Traffic Safety Administration

[U.S. DOT Docket Number NHTSA-2011-0165]

Reports, Forms, and Recordkeeping Requirements

AGENCY: National Highway Traffic Safety Administration (NHTSA), Department of Transportation.

ACTION: Request for public comment on extension of a currently approved collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes an existing collection of information for motor vehicle tire and rim labeling requirements for which NHTSA intends to seek renewed OMB approval. The Federal Register notice with a 60-day comment period was published on December 1, 2011 (76 FR 74846).

DATES: Comments must be received on or before March 14, 2012.

ADDRESSES: Send comments within 30 days to the Office of Information and Regulatory Affairs, Office of Management and Budget, 725 17th Street NW., Washington, DC 20503. Attention: NHTSA Desk Officer.

FOR FURTHER INFORMATION CONTACT: Mr. Jeffrey Woods, NHTSA, 1200 New Jersey Avenue SE., Room W43-467, NVS-122, Washington, DC 20590. Telephone: (202) 366-6206.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(1) Whether the proposed collection of information is necessary for the proper performance of the functions of the agency, including whether the information will have practical utility;

(2) The accuracy of the agency's estimate of the burden of the proposed collection of information, including the validity of the methodology and assumptions used;

(3) How to enhance the quality, utility, and clarity of the information to be collected;

(4) How to minimize the burden of the collection of information on those who are to respond, including the use of appropriate automated, electronic, mechanical, or other technological collection techniques or other forms of information technology, e.g., permitting electronic submission of responses.

In compliance with these requirements, NHTSA published a notice in the Federal Register providing a 60-day comment period, and we received no public comments on the renewal of this information collection (76 FR 74846). Today's notice provides a 30-day comment period in which public comments on the renewal of this information collection may be submitted to OMB.

Title: Tires and Rims Labeling.

OMB Control Number: 2127-0503.

Type of Request: Extension of a currently approved collection of information.

Form Number: This collection of information uses no standard form.

Abstract: Each tire manufacturer and rim manufacturer must label their tires and rims with applicable safety information. In addition, each vehicle manufacturer must affix a label to each vehicle indicating the designated tire size for the vehicle. These labeling requirements ensure that tires are mounted on the appropriate rims, and that the rims and tires are mounted on the vehicle for which they are intended.

Affected Public: Business or other for profit.

Estimated Annual Burden: 274,491 hours.

Estimated Number of Respondents: 1,780.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Issued on: February 8, 2012.
Christopher J. Bonanti,
Associate Administrator for Rulemaking.

[FR Doc. 2012-3303 Filed 2-10-12; 8:45 am]

BILLING CODE 4910-59-P